DEPARTMENT OF COMMERCE

Patent and Trademark Office

[Docket No. PTO-T-2022-0012]

USPTO To Begin Issuing Electronic Trademark Registration Certificates

AGENCY: United States Patent and Trademark Office, Commerce.

ACTION: Notice.

SUMMARY: The United States Patent and Trademark Office (USPTO) will begin issuing electronic trademark registration certificates on June 7, 2022. Upon issuance, the electronic registration certificate will be the official registration certificate. After the USPTO begins issuing electronic registration certificates, trademark owners will have the option to order paper “presentation” copies for a fee. They will also continue to be able to order certified copies of their trademark registrations.

FOR FURTHER INFORMATION CONTACT: Catherine Cain, Office of the Deputy Commissioner for Trademark Examination Policy, USPTO, at 571-272-8946 or TMFRNotices@uspto.gov.

SUPPLEMENTARY INFORMATION: The USPTO will begin issuing trademark registration certificates electronically via the USPTO's Trademark Status and Document Retrieval (TSDR) system on June 7, 2022. With this change, the USPTO is continuing with its efforts to move to full electronic processing of trademark applications and registrations. This change also updates USPTO practice to conform to customer requests and public comments the USPTO has received that indicated a strong preference for the issuance of trademark registration certificates in a digital format rather than as a paper certificate. The change will make the certificates more accessible for trademark owners and decrease the time it takes for trademark owners to receive them. It will also further the USPTO's efforts to positively impact the environment by reducing the use of paper.

After implementation, trademark registration certificates will no longer be issued by printing them on paper and mailing them to the correspondence address of record. Instead, the USPTO will issue the registrations electronically under the electronic signature of the Director and with a digital seal, which will authenticate the registration. The USPTO will upload the official registration certificate to the TSDR database, and an electronic notice will be emailed to the trademark owner and all email addresses of record with a link to access the certificate upon issuance. Posted with the electronic registration certificate will be information regarding registration maintenance requirements pursuant to sections 8 and 71 of the Trademark Act of 1946. 15 U.S.C. 1058, 1141(k). Trademark owners will be able to use the emailed link to view, download, and print a complete copy of the registration certificate at no charge at any time.

While the USPTO will no longer send a paper registration certificate upon issuance, trademark owners will be able to order a one-page, condensed, printed copy of the issued registration that is suitable for framing. This document, known as a “presentation” copy, will be printed on heavy paper; feature a gold foil seal; identify the owner(s); and display bibliographic data, the trademark, and the classes of goods and/or services. Trademark owners who file an initial application on or after the implementation date will be able to order presentation copies for $25 per copy through the Trademark Electronic Application System (TEAS). Trademark owners who filed an initial application before the implementation date will be able to order one presentation copy for free. Trademark owners will continue to be able to order certified copies of their trademark registration for a fee. The certified copy certifies the status and title of the registration and includes the signature of an authorized certifying officer.

In advance of the transition to electronic registration certificates, the USPTO published a notice in the Federal Register on December 15, 2021 (86 FR 71249), regarding its plan and provided additional background information. That notice indicated that the USPTO would publish a notice reminding the public of the transition approximately 30 days before the implementation date, once it was determined. As the date has been determined, the USPTO now publishes this reminder.

Katherine K. Vidal,
Under Secretary of Commerce for Intellectual Property and Director of the United States Patent and Trademark Office.

[FR Doc. 2022-09335 Filed 4-29-22; 8:45 am]

BILLING CODE 3510-16-P